DEPARTMENT OF JUSTICE

Notice of Lodging Proposed Consent Decree

In accordance with Departmental Policy, 28 CFR 50.7, notice is hereby given that a proposed Consent Decree in United States v. David A. Whitehill, et al., Case No. 1:14-cv-188-RJA-MJR, was lodged with the United States District Court for the Western District of New York (Buffalo Division) on May 28, 2019.

This proposed Consent Decree concerns a complaint filed by the United States against David A. Whitehill and Dependable Towing & Recovery, Inc., pursuant to Sections 301(a) and 404 of the Clean Water Act, 33 U.S.C. 1311(a) and 1344, to obtain injunctive relief from and impose civil penalties against the Defendants based on allegations that they discharged pollutants without a permit into waters of the United States and violated an administrative order issued by the United States Environmental Protection Agency. The proposed Consent Decree resolves these allegations by requiring the Defendants to restore impacted areas, perform mitigation, and pay a civil penalty.

The Department of Justice will accept written comments relating to this proposed Consent Decree for thirty (30) days from the date of publication of this Notice. Please address comments to Heather Gange, Senior Attorney, United States Department of Justice, Environment and Natural Resources Division, Environmental Defense Section, Post Office Box 7611, Washington, DC 20044-7611, and refer to United States v. David A. Whitehill, et al., DJ # 90-5-1-1-19741.

The proposed Consent Decree may be examined at the Clerk's Office, United States District Court for the Western District of New York (Buffalo Division), 2 Niagara Square, Buffalo, NY 14202. In addition, the proposed Consent Decree may be examined electronically at http://www.justice.gov/enrd/consent-decrees.

Cherie L. Rogers,
Assistant Section Chief, Environmental Defense Section, Environment and Natural Resources Division.

[FR Doc. 2019-11536 Filed 6-3-19; 8:45 am]

BILLING CODE 4410-15-P